FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 14, 2021.

A. Federal Reserve Bank of Minneapolis (Chris P. Wangen, Assistant Vice President), 90 Hennepin Avenue, Minneapolis, Minnesota 55480-0291:

1. Teresa L. Kuhn, Dilworth, Minnesota; to acquire control of voting shares of Bankshares of Hawley, Inc. (Bankshares), by becoming a trustee of Valley Premier Bank Employee Stock Ownership Plan and Trust, which owns Bankshares, and thereby indirectly owns Valley Premier Bank, all of Hawley, Minnesota.

B. Federal Reserve Bank of Chicago (Colette A. Fried, Assistant Vice President) 230 South LaSalle Street, Chicago, Illinois 60690-1414:

1. The Lynette G. Drake Trust, Lynette G. Drake and Alan D. Drake, as co-trustees, L Drake Commons LLC, Jeffrey Roberts, as manager, J Roberts Commons LLC, Lynette Drake, as manager; all of Bad Axe, Michigan; to join the Roberts Family Control Group, a group acting in concert, to retain voting shares of Northstar Financial Group, Inc., and thereby indirectly retain voting shares of Northstar Bank, both of Bad Axe, Michigan, and West Michigan Community Bank, Hudsonville, Michigan.

In addition, The Jerry A. Peplinski Trust, Jerry A. Peplinski, as trustee, F Peplinski Commons LLC, Lynda Watchowski, as manager, J Peplinski Commons LLC, Frank A. Peplinski, as manager, D Peplinski Commons LLC, Jerry Peplinski, as manager, T Peplinski Commons LLC, David Peplinski, as manager, and L Watchowski Commons LLC, Terry Peplinski, as manager; all of Bad Axe, Michigan, to join the Peplinski Family Control Group, a group acting in concert, to retain voting shares of Northstar Financial Group, Inc., and thereby indirectly retain voting shares of Northstar Bank and West Michigan Community Bank.

Board of Governors of the Federal Reserve System, December 23, 2020.
Margaret McCloskey Shanks,
Deputy Secretary of the Board.

[FR Doc. 2020-28857 Filed 12-29-20; 8:45 am]

BILLING CODE 6210-01-P